DEPARTMENT OF COMMERCE

Census Bureau

Quarterly Financial Report; Proposed Information Collection

ACTION: Proposed collection; comment request.

SUMMARY: The Department of Commerce, as part of its continuing effort to reduce paperwork and respondent burden, invite the general public and other Federal agencies to take this opportunity to comment on proposed and/or continuing information collections, as required by the Paperwork Reduction Act of 1995, Public Law 104-13 (44 U.S.C. 3506 (c) (2) (A).

DATES: Written comments must be submitted on or before May 14, 2001.

ADDRESSES: Direct all written comments to Madeleine Clayton, Department Forms Clearance Officer, Department of Commerce, Room 6086, 14th and Constitution Avenue, NW., Washington, DC 20230 (or via the Internet at mclayton@doc.gov).

FOR FURTHER INFORMATION CONTACT: Request for additional information or copies of the questionnaire should be directed to Ronald Horton, U.S. Census Bureau, Room 1282-3, Washington, DC 20233, Telephone (301) 457-3343.

SUPPLEMENTARY INFORMATION:

I. Abstract

The Quarterly Financial Report (QFR) Program is planning to resubmit for approval to the Office of Management and Budget (OMB) its four data collection forms: Quarterly Financial Report Forms QFR-101 (MG)—long form, QFR-102 (TR)—long form, and QFR-101A(MG)—short form, and QFR-103 (NB)—Nature of Business Report. The current expiration for these forms is December 31, 2001.

The QFR Program has published up-to-date aggregate statistics on the financial results and position of U.S. corporations since 1947. It is a principal economic indicator that also provides financial data essential to calculation of key Government measures of national economic performance. The importance of this data collection is reflected by the granting of specific authority to conduct the program in Title 13 of the United State Code, Section 91, which requires that financial statistics of business operations be collected and published quarterly. Public Law 105-252 extended the authority of the Secretary of Commerce to conduct the QFR Program under Section 91 through September 30, 2005.

The QFR is scheduled to convert to the North American Industry Classification System (NAICS) in April 2002 with the publication of the fourth quarter 2001 data. With the adoption of the NAICS, a number of industries currently covered by QFR under the Standard Industrial Classification (SIC) system will be out of scope. Specifically, QFR will no longer collect data from companies primarily engaged in Publishing and Printing, except Commercial Printing; Logging; and Eating and Drinking Places. Publishing and Printing was moved to the NAICS’ Information sector; Logging to the Agriculture, Forestry, Fishing, and Hunting sector; Eating and Drinking Places to the Accommodation and Food Services sector. Removal of companies previously operating in these industries will result in a reduction in sample size. That reduction is estimated to be approximately 350 companies or about 4 percent of the current QFR sample. The reduction in the out of scope SIC companies will offset an increase of in-scope NAICS companies. As a result, there will be a minimal change in sample size.

The main purpose of the QFR is to provide timely, accurate data on business financial conditions for use by Government and private-sector organizations and individuals. An extensive subscription mailing list attests to the diverse groups using these data including foreign countries, universities, financial analysts, unions, trade associations, public libraries, banking institutions, and U.S. and foreign corporations. The primary users are U.S. Governmental organizations charged with economic policymaking responsibilities. These organizations play a major role in providing guidance, advice, and support to the QFR Program.

II. Method of Collection

The Census Bureau will use mail out/mail back survey forms to collect data. Companies will be asked to respond to the survey within 25 days of the end of the quarter in which the data are being requested. Letters and/or telephone calls encouraging participation will be directed to respondents that have not responded by the designated time. The QFR has also begun limited optional use of a computer readable medium as a substitute for the completed form; i.e., the Computerized Self-Administered Questionnaire (CSAQ). The CSAQ can be completed and filed electronically via the internet, or by returning a diskette for electronic data capture. The CSAQ contains interactive edits and balancing features making it possible for the respondent to submit fewer data errors resulting in improved data. The number of respondents having optional use of the CSAQ will increase until full implementation which is expected by the fourth quarter 2002 report period. Use of the CSAQ will allow for easier and more timely filing of the QFR report and provide a reduction in respondent cost.

III. Data

OMB Number: 0607-0432.

Form Numbers: QFR-101 (Sent quarterly to Manufacturing, Mining, and Wholesale Trade corporations with assets of $50 million or more at time of sampling), QFR-102 (Sent quarterly to Retail Trade corporations with assets of $50 million or more at time of sampling), QFR-101A (Sent quarterly to Manufacturing corporations with assets of less than $50 million at time of sampling), and QFR-103 (Sent at the beginning of sampling selection and at 2-year intervals if the corporation is included in the sample for more than eight quarters).

Type of Review: Regular Review.

Affected Public: Manufacturing corporations with assets of $250 thousand or more and Mining, and Wholesale and Retail Trade corporations with assets of $50 million or more.

Estimated Number of Respondents: Form QFR-101—3,388 per quarter, 13,552 annually. Form QFR-102—497 per quarter, 1,988 annually. Form QFR-101A—4,340 per quarter, 17,360 annually. Form QFR-103—1,225 per quarter, 4,900 annually.

Estimated Time Per Response: The average for all respondents is about 2.1 hours. For companies completing form QFR 101 or QFR-102, the range is from less than 1 to 10 hours, averaging 3.75 hours. For companies completing form QFR-101A, the range is less than 1 hour to 3 hours, averaging 1.2 hours. For companies completing form QFR-103, the range is from 1 to 4 hours, averaging 2.4 hours.

Estimated Total Annual Burden Hours: 78,000.

Estimated Total Annual Cost: $1,450,000.

Respondents' Obligation: Mandatory.

Legal Authority: Title 13 United States Code, Sections 91 and 224.

IV. Request for Comments

Comments are invited on: (a) Whether the proposed collection of information is necessary for the proper performance of the functions of the agency, including whether the information shall have practical utility; (b) the accuracy of the agency's estimate of the burden (including hours and cost) of the proposed collection of information; ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 8, 2001.
Madeleine Clayton,
Departmental Forms Clearance Officer, Office of the Chief Information Officer.

[FR Doc. 01-6250 Filed 3-13-01; 8:45 am]

BILLING CODE 3510-07-P